DEPARTMENT OF AGRICULTURE

Natural Resources Conservation Service

Field Office Technical Guide of NRCS in South Dakota; Availability of Proposed Changes

AGENCY: USDA Natural Resources Conservation Service.

ACTION: Notice of Availability of proposed changes to conservation practice standards in Section IV of the Field Office Technical Guide (FOTG) of NRCS in South Dakota for review and comment.

SUMMARY: It is the intention of NRCS in South Dakota to issue revised conservation practice standards in Section IV of the FOTG for the following practices: Irrigation Canal or Lateral (320); Irrigation Storage Reservoir; Irrigation System, Sprinkler (442); Irrigation System, Tailwater Recovery (447); Land Clearing (460); Land Smoothing (466); Open Channel (582); and Pond (378).

DATES: Comments on this notice must be received on or before January 17, 2001.

ADDRESSES: All comments concerning the proposed conservation practice standards changes should be addressed to: Dean Fisher, State Conservationist, NRCS, 200 Fouth Street SW, Huron, South Dakota 57350. Copies of these standards will be made available upon written request.

Dated: December 4, 2000.
Dean Fisher,
State Conservationist, Natural Resources Conservation Service, Huron, South Dakota 57350.

[FR Doc. 00-32174 Filed 12-15-00; 8:45 am]

BILLING CODE 3410-16-M